DEPARTMENT OF ENERGY

Federal Energy Regulatory Commission

[Docket Nos. MG00-6-002, 003 and 004, EC99-81-003 and 004, MT00-17-000]

Dominion Resources, Inc. and Dominion Transmission Inc. (Formerly CNG Transmission Inc.); Notice of Meeting

January 5, 2001.

This is to inform all parties in the proceedings that on January 12, 2001, Dominion senior officials will meet with staff to discuss compliance with the Commission's orders in these dockets. The meeting will be held at 1 p.m. in Room 3M-1 at the Federal Energy Regulatory Commission, 888 First Street NE., Washington, DC 20426. All interested parties are permitted to attend.

David P. Boergers,
Secretary.

[FR Doc. 01-867 Filed 1-10-01; 8:45 am]

BILLING CODE 6717-01-M